DEPARTMENT OF ENERGY

Federal Energy Regulatory Commission

[Project No. 15320-001]

Stirling T. Hebenstreit; Notice of Preliminary Permit Application Accepted for Filing and Soliciting Comments, Motions To Intervene, and Competing Applications

On June 24, 2024, and as supplemented on October 16, 2024, and December 31, 2024, Stirling T. Hebenstreit, filed an application for a preliminary permit, pursuant to section 4(f) of the Federal Power Act (FPA), proposing to study the feasibility of the Energy Production from Deep Ocean Pressure Project No. 15320 (project), to be located on Commencement Bay in Pierce County, Washington. The sole purpose of a preliminary permit, if issued, is to grant the permit holder priority to file a license application during the permit term. A preliminary permit does not authorize the permit holder to perform any land-disturbing activities or otherwise enter upon lands or waters owned by others without the owners' express permission.

The proposed project would consist of the following: (1) a 65-foot long, 25-foot-wide, 11-foot-high single-haul floating steel barge (surface platform), moored to the seafloor using anchors and mooring buoys; (2) a 1-inch diameter, 575-foot-long stainless-steel screw gate valve stem rod descending from the surface platform to an intake opening gate; (3) a 4-foot-diameter vertical intake opening with an adjustable gate valve located at a depth of about 560 feet from the water surface; (4) a 3-foot-long, 4- to 8-foot-diameter vertical intake raceway pipe; (5) an axial turbine with 3- to 4-foot-long turbine blades housed within the intake raceway and connected to a submerged 4-foot-long, 4-foot-wide, 6-foot-high hermetically-sealed stainless-steel box containing a single 1.67-megawatt (MW) generator; (6) two 20-foot-long, 8.5-foot-wide, 8-foot-high, aluminum tanks situated on the seafloor that receive water exiting the turbine; (7) air compressors connected to hoses and air actuators to control the flow of turbine discharge water into and between the tanks; (8) six 1.33-foot-diameter outlet pipes that discharge water from the tanks to the sea; (9) two 560-foot-long steel pipe raceways containing a total of five 1-inch diameter, 560-foot-long aluminum-core conductor cables to transmit electricity from the generator to two 10 megawatt-hour sodium-ion energy storage battery banks located on the floating surface platform; and (10) appurtenant facilities. Battery banks would be transported to and from the surface platform and the Port of Tacoma using a supply vessel. The estimated annual generation of the project would be about 827,542 megawatt-hours.

Applicant Contact: Stirling T. Hebenstreit, Stirling Industries LLC, 3303 Paty Drive, Honolulu, Hawaii 96822; telephone at (571) 535-5966.

FERC Contact: John Matkowski; phone (202) 502-8576; email at john.matkowski@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include docket number P-15320-001.

The Commission's Office of Public Participation (OPP) supports meaningful public engagement and participation in Commission proceedings. OPP can help members of the public, including landowners, community organizations, Tribal members and others, access publicly available information and navigate Commission processes. For public inquiries and assistance with filings such as interventions, comments, or requests for rehearing, the public is encouraged to contact OPP at (202) 502-6595 or OPP@ferc.gov.

More information about this project, including a copy of the application, can be viewed on the Commission's website (https://www.ferc.gov) using the “eLibrary” link. Enter the docket number (P-15320) in the docket number field to access the document. For assistance, please contact FERC Online Support.

Dated: March 13, 2025.
Debbie-Anne A. Reese,
Secretary.

[FR Doc. 2025-04698 Filed 3-19-25; 8:45 am]

BILLING CODE 6717-01-P